EQUAL EMPLOYMENT OPPORTUNITY COMMISSION

Sunshine Act Meeting

AGENCY HOLDING THE MEETING: Equal Employment Opportunity Commission.

DATE AND TIME: Tuesday, December 11, 2001 at 1:30 p.m. (Eastern Time).

PLACE: Conference Room on the 9th Floor of the EEOC Office Building, 1801 “L” Street, NW., Washington, DC 20507.

STATUS: The meeting will be open to the public.

MATTERS TO BE CONSIDERED:

Open Session

1. Announcement of Notation Votes, and

2. Invited Panelists on Employment Discrimination in the Aftermath of September 11th.

Note: Seating is limited to approximately 125 people. An overflow room will have closed circuit television of the meeting. Members of the public are requested to arrive before 1 p.m. in order to allow sufficient time to complete entry procedures prior to the meeting. Any matters not discussed or concluded may be carried over to a later meeting. (In addition to published notices on EEOC Commission meetings in the Federal Register, the Commission also provides a recorded announcement a full week in advance on future Commission meetings.) Please telephone (202) 663-7100 (voice) and (202) 663-4074 (TTD) at any time for information on these meetings.

CONTACT PERSON FOR MORE INFORMATION: Frances M. Hart, Executive Officer on (202) 663-4070.

Dated: November 28, 2001.
Frances M. Hart,
Executive Officer, Executive Secretariat.

[FR Doc. 01-29902 Filed 11-28-01; 2:54 pm]

BILLING CODE 6750-06-M